DEPARTMENT OF ENERGY

Federal Energy Regulatory Commission

[Docket No. CP04-99-000]

Texas Gas Transmission, LLC; Notice of Request Under Blanket Authorization

April 8, 2004.

Take notice that on April 1, 2004, Texas Gas Transmission, LLC (Texas Gas), P.O. Box 20008, Owensboro, Kentucky 42304, filed in Docket No. CP04-99-000 a request pursuant to Sections 157.205 and 157.208(b) of the Commission's regulations under the Natural Gas Act (18 CFR 157.205 and 157.216) for authorization to replace the existing turbine at the Jeffersontown Compressor Station of Texas Gas in Jefferson County, Kentucky, under the authorization issued in Docket No. CP82-479-000 pursuant to section 7 of the Natural Gas Act, all as more fully described in the request.

Copies of this request are on file with the Commission and are available for public inspection. This filing may also be viewed on the Web at http://www.ferc.gov using the “eLibrary” link. Enter the docket number excluding the last three digits in the docket number field to access the document. For assistance, please contact FERC Online Support at FERCOnlineSupport@ferc.gov or toll-free at (866) 208-3676, or for TTY, contact (202) 502-8659.

Texas Gas asserts that the proposed replacement is necessary in order to reduce nitrogen oxide emissions at the Texas Gas Jeffersontown Compressor Station in Jefferson County, Kentucky. Texas Gas states that the existing turbine/compressor package (T-1 unit) is rated at 12,090 NEMA horsepower. Texas Gas states further that the T-1 unit will be replaced with a new Solar Mars Model 100-T15000S gas turbine packaged with a Solar C652 two-stage gas compressor (T-2 unit). The T-2 unit, it is said, is rated at 13,330 NEMA horsepower. Texas Gas points out that the replacement would result in a net increase in the installed horsepower at the Jeffersontown of 1,240 HP. Texas Gas concludes that the additional horsepower at Jeffersontown would not increase the overall capacity of the pipeline system, as no additional gas can flow through the upstream constraints at Greenville, nor continue to flow through Jeffersontown through the downstream constraints through Dillsboro.

Texas Gas maintains that the estimated cost to install the replacement unit would be $13.5 million and would be financed from funds generated internally.

Any person or the Commission's Staff may, within 45 days after the issuance of the instant notice by the Commission, file pursuant to rule 214 of the Commission's procedural rules (18 CFR 385.214) a motion to intervene or notice of intervention and, pursuant to section 157.205 of the Commission's Regulations under the Natural Gas Act (NGA) (18 CFR 157.205) a protest to the request. If no protest is filed within the time allowed therefore, the proposed activity shall be deemed to be authorized effective the day after the time allowed for protest. If a protest is filed and not withdrawn within 30 days after the time allowed for filing a protest, the instant request shall be treated as an application for authorization pursuant to Section 7 of the NGA.

Comments, protests and interventions may be filed electronically via the internet in lieu of paper. See 18 CFR 385.2001(a)(1)(iii) and the instructions on the Commission's Web site under the “e-Filing” link.

Linda Mitry,
Acting Secretary.

[FR Doc. E4-851 Filed 4-14-04; 8:45 am]

BILLING CODE 6717-01-P